DEPARTMENT OF HEALTH AND HUMAN SERVICES

Centers for Disease Control and Prevention

[60Day-18-18APX; Docket No. CDC-2018-0066]

Proposed Data Collection Submitted for Public Comment and Recommendations

AGENCY: Centers for Disease Control and Prevention (CDC), Department of Health and Human Services (HHS).

ACTION: Notice with comment period.

SUMMARY: The Centers for Disease Control and Prevention (CDC), as part of its continuing effort to reduce public burden and maximize the utility of government information, invites the general public and other Federal agencies the opportunity to comment on a proposed and/or continuing information collection, as required by the Paperwork Reduction Act of 1995. This notice invites comment on a proposed information collection project titled “Dental Survey: Improving outpatient antibiotic use through implementation and evaluation of Core Elements of Outpatient Antibiotic Stewardship.” This information collection request will generate data to assess knowledge, attitudes, practices and perceived barriers to appropriate antibiotic prescribing in a representative sample of dental providers. Results will be used to inform interventions for this specific provider population and support our efforts to improve antimicrobial stewardship within outpatient clinics.

DATES: CDC must receive written comments on or before October 9, 2018.

ADDRESSES: You may submit comments, identified by Docket No. CDC-2018-0066 by any of the following methods:

• Federal eRulemaking Portal: Regulations.gov. Follow the instructions for submitting comments.

• Mail: Jeffrey M. Zirger, Information Collection Review Office, Centers for Disease Control and Prevention, 1600 Clifton Road NE, MS-D74, Atlanta, Georgia 30329.

Instructions: All submissions received must include the agency name and Docket Number. CDC will post, without change, all relevant comments to Regulations.gov.

Please note: Submit all comments through the Federal eRulemaking portal (regulations.gov) or by U.S. mail to the address listed above.

FOR FURTHER INFORMATION CONTACT: To request more information on the proposed project or to obtain a copy of the information collection plan and instruments, contact Jeffrey M. Zirger, Information Collection Review Office, Centers for Disease Control and Prevention, 1600 Clifton Road NE, MS-D74, Atlanta, Georgia 30329; phone: 404-639-7570; Email: omb@cdc.gov.

SUPPLEMENTARY INFORMATION: Under the Paperwork Reduction Act of 1995 (PRA) (44 U.S.C. 3501-3520), Federal agencies must obtain approval from the Office of Management and Budget (OMB) for each collection of information they conduct or sponsor. In addition, the PRA also requires Federal agencies to provide a 60-day notice in the Federal Register concerning each proposed collection of information, including each new proposed collection, each proposed extension of existing collection of information, and each reinstatement of previously approved information collection before submitting the collection to the OMB for approval. To comply with this requirement, we are publishing this notice of a proposed data collection as described below.

The OMB is particularly interested in comments that will help:

1. Evaluate whether the proposed collection of information is necessary for the proper performance of the functions of the agency, including whether the information will have practical utility;

2. Evaluate the accuracy of the agency's estimate of the burden of the proposed collection of information, including the validity of the methodology and assumptions used;

3. Enhance the quality, utility, and clarity of the information to be collected; and

4. Minimize the burden of the collection of information on those who are to respond, including through the use of appropriate automated, electronic, mechanical, or other technological collection techniques or other forms of information technology, e.g., permitting electronic submissions of responses.

5. Assess information collection costs.

Proposed Project

Dental Survey: Improving outpatient antibiotic use through implementation and evaluation of Core Elements of Outpatient Antibiotic Stewardship—New Information Collection Request—National Center for Emerging and Zoonotic Infectious Diseases (NCEZID), Centers for Disease Control and Prevention (CDC).

Background and Brief Description

Antibiotic resistance is a growing problem that has been shown to be a result of wide-spread antibiotic use and misuse. While efforts to improve antibiotic use to date have been primarily implemented in the inpatient setting, the majority of antibiotics are prescribed in the outpatient setting. Up to 50% of all antibiotics prescribed for acute respiratory tract infections (ARI) are proposed to be inappropriate. Interventions that have been demonstrated to decrease inappropriate use include audit-and-feedback, academic detailing, clinical decision support systems (CDSS), provider-focused public commitments to reduce inappropriate antibiotic use, and delayed antibiotic prescriptions. However, current data is limited due to short study timeframes and lack of sustainability.

In a pilot project, phone interviews were conducted with six dental providers and three pediatricians, specifically those who could speak to the knowledge, attitudes and behaviors of their peers. PRA was deemed not applicable by the NCEZID PRA representative for this pilot. We identified six dental providers that were recruited for a phone interview with our team's healthcare psychologist. Semi-structured interviews were used to assess: (1) Knowledge about antibiotic prescribing (what constitutes appropriate and inappropriate prescribing); (2) the providers current antibiotic prescribing practices; (3) beliefs about the consequences of inappropriate and appropriate prescribing (e.g., consequences for the provider, for individual patients, and for the healthcare system); (4) attitudes about antibiotic prescribing (expected negative and positive reactions to appropriate prescribing); (5) subjective norms (beliefs related to what is “normal” antibiotic prescribing for the provider and for peers); (6) control beliefs related to appropriate prescribing (factors that make appropriate prescribing easy or difficult, e.g., barriers); and (7) future planned behaviors along with perceived solutions to promote appropriate antibiotic prescribing.

During the analysis of the six dental interviews it was determined by the team that these interviews contained very unique information in terms of knowledge, attitudes and behaviors compared to other non-dental providers. Therefore, it was also determined that information saturation was not reached during this first data collection phase. We want to continue our data collect efforts within this specific population. This information will be crucial in future design of scalable and sustainable outpatient antibiotic stewardship interventions that incorporate all Core Elements of Outpatient Antibiotic Stewardship and to be able to implement it across a network of dental outpatient facilities.

The total estimated annual Burden Hours are 50. There will be no anticipated costs to respondents other than their time.

Estimated Annualized Burden Hours
Type of respondents | Form name | Number of respondents | Number of responses per respondent | Average burden per response (in hours) | Total burden (in hours)
Dental Providers | Dental Survey CDC Outpatient SHEPheRD | 100 | 1 | .5 | 50
Total |  |  |  |  | 50

Jeffrey M. Zirger,
Acting Chief, Information Collection Review Office, Office of Scientific Integrity, Office of the Associate Director for Science, Office of the Director, Centers for Disease Control and Prevention.

[FR Doc. 2018-17174 Filed 8-9-18; 8:45 am]

BILLING CODE 4163-18-P